DEPARTMENT OF AGRICULTURE

Rural Utilities Service

Great River Energy, Notice of Finding of No Significant Impact

AGENCY: Rural Utilities Service, USDA.

ACTION: Notice of finding of no significant impact.

SUMMARY: Notice is hereby given that the Rural Utilities Service (RUS) has made a finding of no significant impact (FONSI) in connection with potential impacts related to the construction and operation of a natural gas-fired simple cycle, combustion turbine power generation facility in Cambridge Township in Isanti County, Minnesota. The electrical output from the facility is expected to range from 170 megawatts (MW) to 190 MW depending upon operating conditions. RUS may provide financial assistance for this project.

FOR FUTHER INFORMATION CONTACT: Nurul Islam, Environmental Protection Specialist, Engineering and Environmental Staff, Rural Development, Utilities Programs, Stop 1571, 1400 Independence Avenue, SW., Washington, DC 20250-1571, telephone: (202) 720-1414, FAX: (202) 720-0820; or e-mail: nurul.islam@wdc.usda.gov.; or Mark Strohfus, Environmental Project Leader, GRE, 17845 East Highway 10, P.O. Box 800, Elk River, Minnesota 55330-0800, telephone (763) 241-2491, FAX: (763) 241-6033, e-mail: MStrohfus@grenergy.com.

SUPPLEMENTARY INFORMATION: Great River Energy (GRE) is proposing to construct a simple-cycle combustion turbine generation plant in Cambridge Township in Isanti County, Minnesota. Total electrical output is expected to range from 170 MW to 190 MW depending on operating conditions. An alternative site for the plant is also being proposed for the project. The alternative site location is at GRE's Elk River headquarters in Sherburne County, Minnesota. The Elk River site presently has a 40 MW facility fueled with refuse derived fuel and it would remain if the proposed plant were to be constructed at this alternative site. No additional land would be purchased if the plant were to be constructed at this location. Due to constraints on natural gas availability, a combustion turbine at the Elk River site would be equipped to fire fuel oil as a backup fuel. The generator would be connected to the Elk River Substation. Construction of the project at the proposed Cambridge site would necessitate upgrading approximately 47 miles of existing 69-kilovolt (kV) transmission lines. Construction at the alternative Elk River site would necessitate upgrading approximately 27 miles of existing 69-kV transmission lines to allow the electricity from the new generator to be reliably delivered from the site. A fuel oil-fired combustion turbine rated at approximately 20 MW exists at the proposed Cambridge site and will remain in operation at the site after construction of the proposed combustion turbine. Additional land would be acquired to facilitate the proposed construction activities. The proposal at the Cambridge site would include upgrades to the existing substation at the Cambridge plant site. A 10-inch high pressure gas lateral pipeline approximately one-half mile long would be constructed to provide a natural gas fuel supply for the proposal.

GRE prepared an environmental analysis for RUS that describes the proposal and assesses the proposal's environmental impacts. RUS has conducted an independent evaluation of the environmental analysis and believes that it accurately assesses the impacts of the proposal. This environmental analysis will serve as RUS' environmental assessment (EA) of the project. The EA was distributed for public and agency review. Comments were received from two entities: the Minnesota Department of Transportation (MNDOT) and the U.S. Environmental Protection Agency (EPA) Region 5. The MNDOT commented that the project would not impact the local trunk highway system. The EPA commented that: (1) The natural gas pipeline to be installed, owned and operated by a third party was not adequately addressed in the EA, and (2) there should be stronger protective measures, including the consideration of third party oversight/inspection, where the proposal's transmission lines involve environmentally sensitive areas identified by the Minnesota Department of Natural Resources (MNDNR). Construction of the natural gas pipeline must follow the Federal Energy Regulatory Commission (FERC) National Environmental Policy Act requirements. RUS believes that adequate protective measures for the construction of the pipeline will be implemented through the FERC requirements. GRE has agreed to follow the recommendations of the MNDNR; therefore, RUS believes that adequate protective measures will be implemented in the environmentally sensitive areas. Since the MNDNR recommendations are being followed and the MNDNR did not suggest that third party oversight was necessary, RUS believes that third party oversight is not warranted.

GRE published notices of the availability of the EA and solicited public comments per 7 CFR 1794.42. The 30-day comment period on the EA for the proposal ended January 6, 2006.

Based on the EA, RUS has concluded that the proposal will not have a significant effect to various resources, including important farmland, floodplains, wetlands, cultural resources, threatened and endangered species and their critical habitat, air, water quality and noise. RUS has also determined that there would be no negative impacts of the proposal on minority communities and low-income communities as a result of the proposal's construction.

Any final action by RUS related to the proposal will be subject to, and contingent upon, compliance with all relevant Federal environmental laws and regulations and completion of environmental review procedures as prescribed by the 7 CFR part 1794, Environmental Policies and Procedures.

Dated: January 11, 2006.
James R. Newby,
Assistant Administrator, Electric Program, Rural Utilities Service.

[FR Doc. E6-509 Filed 1-18-06; 8:45 am]

BILLING CODE 3410-15-P